DEPARTMENT OF COMMERCE

International Trade Administration

[A-533-867]

Welded Stainless Pressure Pipe From India: Postponement of Preliminary Determination of Antidumping Duty Investigation

AGENCY: Enforcement and Compliance, International Trade Administration, Department of Commerce.

DATES: Effective Date: March 3, 2016.

FOR FURTHER INFORMATION CONTACT: James Terpstra, AD/CVD Operations, Office III, Enforcement and Compliance, International Trade Administration, U.S. Department of Commerce, 14th Street and Constitution Avenue NW., Washington, DC 20230; telephone: (202) 482-3965.

SUPPLEMENTARY INFORMATION:

Background

On October 20, 2015, the Department of Commerce (“Department”) initiated an antidumping duty investigation on welded stainless pressure pipe from India.¹ As explained in the Memorandum from the Acting Assistant Secretary for Enforcement and Compliance, the Department has exercised its discretion to toll all administrative deadlines due to the recent closure of the Federal Government. All deadlines in this segment of the proceeding have been extended by four business days. The revised deadline for the preliminary determination of this investigation is no later than March 14, 2016.²

¹ See Welded Stainless Pressure Pipe from India: Initiation of Antidumping Duty Investigation, 80 FR 65696 (October 27, 2015).

² See Memorandum to the File from Ron Lorentzen, Acting Assistant Secretary for Enforcement and Compliance, “Tolling of Administrative Deadlines as a Result of the Government Closure during Snowstorm `Jonas',” dated January 27, 2016 (“Tolling Memorandum”).

Postponement of Preliminary Determination

Section 733(b)(1) of the Tariff Act of 1930, as amended (“the Act”), requires the Department to issue the preliminary determination in an antidumping duty investigation within 140 days after the date on which the Department initiated the investigation. However, if the petitioner makes a timely request for a postponement, section 733(c)(1)(A) of the Act allows the Department to postpone making the preliminary determination until no later than 190 days after the date on which the Department initiated the investigation. On February 9, 2016, Petitioners ³ submitted a timely request pursuant to section 733(c)(1)(A) of the Act and 19 CFR 351.205(e).⁴

³ Bristol Metals LLC, Felker Brothers Corporation, Marcegaglia USA, Inc., and Outokumpu Stainless Pipe, Inc. (collectively, “Petitioners”).

⁴ See letter from Petitioners, “Welded Stainless Pressure Pipe from India: Request Extension for Preliminary Determination,” dated February 9, 2015.

The Department finds that because there are no compelling reasons to deny Petitioners' request, the Department is postponing the deadline for the preliminary determination to no later than 190 days after the day on which the investigation was initiated, in accordance with section 733(c)(1)(A) of the Act, plus an additional four business days in accordance with the Tolling Memorandum. Accordingly, the Department will issue the preliminary determination no later than May 3, 2016. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: February 26, 2016.
Paul Piquado.
Assistant Secretary for Enforcement and Compliance.

[FR Doc. 2016-04719 Filed 3-2-16; 8:45 am]

BILLING CODE 3510-DS-P